DEPARTMENT OF THE INTERIOR

National Park Service

[NPS-WASO-NAGPRA-NPS0022625; PPWOCRADN0-PCU00RP14.R50000]

Notice of Intent To Repatriate Cultural Items: Denver Museum of Nature & Science, Denver, CO

AGENCY: National Park Service, Interior.

ACTION: Notice.

SUMMARY: The Denver Museum of Nature & Science, in consultation with the appropriate Indian tribes or Native Hawaiian organizations, has determined that the cultural items listed in this notice meet the definition of unassociated funerary objects and/or sacred objects. Lineal descendants or representatives of any Indian tribe or Native Hawaiian organization not identified in this notice that wish to claim these cultural items should submit a written request to the Denver Museum of Nature & Science. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Denver Museum of Nature & Science at the address in this notice by February 13, 2017.

ADDRESSES: Chip Colwell, Senior Curator of Anthropology and NAGPRA Officer, Denver Museum of Nature & Science, 2001 Colorado Boulevard, Denver, CO 80205, telephone (303) 370-6378, email Chip.Colwell@dmns.org.

SUPPLEMENTARY INFORMATION: Notice is here given in accordance with the Native American Graves Protection and Repatriation Act (NAGPRA), 25 U.S.C. 3005, of the intent to repatriate cultural items under the control of the Denver Museum of Nature & Science, Denver, CO, that meet the definition of unassociated funerary objects and/or sacred objects, under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1964, seven cultural items were removed from Ojibwe communities in unknown counties, MN. In the 1950s, Karen Petersen and her husband Sydney Petersen spent their summers visiting Ojibwe communities, buying crafts from tribal members. These items belonged to John Mink, a fourth-degree Midewiwin priest at the Mille Lacs Indian Reservation in central Minnesota. Soon after Mink's death in 1962 or 1963, museum records affirm the items were dug up to be offered for sale. Petersen sold the cache to Mary and Francis Crane on February 2, 1976, with the exception of one scroll (A943.1), which was donated to the Denver Museum of Natural History (now the Denver Museum of Nature & Science or DMNS) directly in November 1976. The Cranes in turn donated the other six unassociated funerary objects to the DMNS in December 1976. The seven unassociated funerary objects are 2 birch bark scrolls (A943.1 and AC.11525), 2 ceremonial invitation sets (AC.11528 and AC.11529), 2 medicine bags (AC.11535B and AC.11535J), and 1 vessel containing ceremonial stain (AC.11530).

Between 1950 and 1964, six cultural items were removed from Ojibwe communities in unknown counties, MN. Karen Petersen purchased four cultural items (AC.11533, AC.11536A, AC.11536B, and AC.11538) from Ole Sam who had inherited these objects in 1960 from the estate of his father, Mike Sam, a Midewiwin priest. Petersen sold the cultural items to Mary and Francis Crane on February 5, 1976, who donated them to THE DMNS in December 1976. Petersen purchased one cultural item (ac.11526) from Annie Sam, a rare fourth-degree Midewiwin female priest. On February 2, 1976, the Cranes purchased the cultural item and donated it to the DMNS in December 1976. Petersen purchased one cultural item (AC.115351) from Maggie Skinaway in 1961. On February 19, 1976, Petersen sold the cultural item to the Cranes who donated it to the DMNS in December 1976. The six sacred objects are 1 ceremonial post (AC.11533), 1 large cowrie shell (AC.11536A), 1 collection of 19 shells (AC.11536B), 1 ceremonial drumstick (AC.115381), 1 birch bark scroll (AC.11526), and 1 medicine bag (AC.11535I).

Museum accession, catalogue, and documentary records, as well as consultation with representatives of the Mille Lacs Band of the Minnesota Chippewa Tribe, Minnesota, indicate that the 13 cultural objects are Ojibwe and are from the Mille Lacs Indian Reservation, Minnesota. The 13 cultural items, A943.1, AC.11525, AC.11528, AC.11529, AC.11530, AC.11535B, AC.11535J, AC.11533, AC.11536A, AC.11536B, AC 11538, AC.11526, and AC.11535I, relate to the Grand Medicine Society or Midewiwin, a ritual society.

Determinations Made by the Denver Museum of Nature & Science

Officials of the Denver Museum of Nature & Science have determined that:

• Pursuant to 25 U.S.C. 3001(3)(B), the 7 cultural items described above are reasonably believed to have been placed with or near individual human remains at the time of death or later as part of the death rite or ceremony and are believed, by a preponderance of the evidence, to have been removed from a specific burial site of a Native American individual.

• Pursuant to 25 U.S.C. 3001(3)(C), the 6 cultural items described above are specific ceremonial objects needed by traditional Native American religious leaders for the practice of traditional Native American religions by their present-day adherents.

• Pursuant to 25 U.S.C. 3001(2), there is a relationship of shared group identity that can be reasonably traced between the unassociated funerary objects and the Mille Lacs Band of the Minnesota Chippewa Tribe, Minnesota.

• Pursuant to 25 U.S.C. 3001(2), there is a relationship of shared group identity that can be reasonably traced between the sacred objects and the Mille Lacs Band of the Minnesota Chippewa Tribe, Minnesota.

Additional Requestors and Disposition

Lineal descendants or representatives of any Indian tribe or Native Hawaiian organization not identified in this notice that wish to claim these cultural items should submit a written request with information in support of the claim to Chip Colwell, Senior Curator of Anthropology and NAGPRA Officer, Denver Museum of Nature & Science, 2001 Colorado Boulevard., Denver, CO 80205, telephone (303) 370-6378, email Chip.Colwell@dmns.org, by February 13, 2017. After that date, if no additional claimants have come forward, transfer of control of the unassociated funerary objects and/or sacred objects may proceed.

The Denver Museum of Nature & Science is responsible for notifying the Mille Lacs Band of the Minnesota Chippewa Tribe, Minnesota, that this notice has been published.

Dated: December 21, 2016.
Melanie O'Brien,
Manager, National NAGPRA Program.

[FR Doc. 2017-00512 Filed 1-11-17; 8:45 am]

BILLING CODE 4312-52-P